DEPARTMENT OF THE INTERIOR

National Indian Gaming Commission

25 CFR Chapter III

Regulatory Review Schedule

AGENCY: National Indian Gaming Commission, Interior.

ACTION: Notice of date and location change for Tribal consultation meeting.

SUMMARY: The purpose of this document is to change the date and location for the Tribal consultation scheduled for November 14-15, 2011 at the Spa Resort Casino, Palms Springs, California to November 14, 2011 in Rapid City, South Dakota.

DATES: See SUPPLEMENTARY INFORMATION below for dates and locations of cancelled consultations.

FOR FURTHER INFORMATION CONTACT: Lael Echo-Hawk, National Indian Gaming Commission, 1441 L Street, NW., Suite 9100, Washington, DC 20005. Telephone: 202-632-7003; e-mail: reg.review@nigc.gov.

SUPPLEMENTARY INFORMATION: On November 18, 2010, the National Indian Gaming Commission (NIGC) issued a Notice of Inquiry and Notice of Consultation advising the public that it was conducting a review of its regulations promulgated to implement 25 U.S.C. 2701-2721 of the Indian Gaming Regulatory Act (IGRA) and requesting public comment on the process for conducting the regulatory review. On April 4, 2011, after holding eight consultations and reviewing all comments, NIGC published a Notice of Regulatory Review Schedule in the Federal Register setting out consultation schedules and review processes. (76 FR 18457, April 4, 2011).

The Commission's regulatory review process established a Tribal consultation schedule with a description of the regulation groups to be covered during consultation.

Group 1 included a review of:

(a) A Buy Indian Act regulation;

(b) Part 523—Review and Approval of Existing Ordinances or Resolutions;

(c) Part 514—Fees;

(d) Part 559—Facility License Notifications, Renewals, and Submissions; and

(e) Part 542—Minimum Internal Control Standards.

Group 2 included a review of:

(a) Part 573—Enforcement; and

(b) Regulations concerning proceedings before the Commission, including: Parts 519—Service, Part 524—Appeals, Part 539—Appeals, and Part 577—Appeals Before the Commission.

Group 3 included a review of:

(a) Part 543—Minimum Internal Control Standards for Class II Gaming; and

(b) Part 547—Minimum Technical Standards for Gaming Equipment Used With the Play of Class II Games.

Group 4 included a review of:

(a) Part 556—Background Investigations for Primary Management Officials and Key Employees;

(b) Part 558—Gaming Licenses for Key Employees and Primary Management Officials;

(c) Part 571—Monitoring and Investigations;

(d) Part 531—Collateral Agreements;

(e) Part 537—Background Investigations for Persons or Entities With a Financial Interest in, or Having Management Responsibility for, a Management Contract; and

(f) Part 502—Definitions.

Group 5 included a review of:

(a) Part 518—Self Regulation of Class II Gaming;

(b) A Sole Proprietary Interest regulation; and

(c) Class III MICS.

The Commission has conducted 12 consultations since April 2011 and will continue consultations on the regulations, however, the Commission has removed Group 3 regulations (Class II MICS and Technical Standards) and Class III MICS from the current consultation schedule. A Tribal Advisory Committee will review those regulations during a separate meeting schedule. The Commission intends to consult with Tribes on Group 3 regulations and Class III MICS after completion of the Tribal Advisory Committee process.

This document advises the public that the following Tribal consultation has been changed to a one day consultation in Rapid City, South Dakota.

Consultation date | Event | Location | Regulation group(s)
November 14-15, 2011 | NIGC Consultation—California | Spa Resort Casino, Palm Springs, CA | 5

New date and location:

Consultation date | Event | Location | Regulation group(s)
November 14, 2011 | NIGC Consultation—Great Plains | Hilton Garden Inn, Rapid City, SD | 1, 2, 4, 5

For additional information on consultation locations and times, please refer to the Web site of the National Indian Gaming Commission, http://www.nigc.gov.

Dated: September 12, 2011 in Washington, DC.
Tracie L. Stevens,
Chairwoman.
Steffani A. Cochran,
Vice-Chairwoman.
Daniel J. Little,
Associate Commissioner.

[FR Doc. 2011-23729 Filed 9-15-11; 8:45 am]

BILLING CODE P